DEPARTMENT OF THE TREASURY

Bureau of the Fiscal Service

Senior Executive Service; Fiscal Service Performance Review Board

AGENCY: Bureau of the Fiscal Service, Treasury.

ACTION: Notice.

SUMMARY: This notice announces the appointment of the members of the Fiscal Service Performance Review Board (PRB) for the Bureau of the Fiscal Service (Fiscal Service). The PRB reviews the performance appraisals of career senior executives who are below the level of Assistant Commissioner/Executive Director and who are not assigned to the Office of the Commissioner in the Fiscal Service. The PRB makes recommendations regarding proposed performance appraisals, ratings, bonuses, pay adjustments, and other appropriate personnel actions.

DATES: Effective on October 25, 2016.

FOR FURTHER INFORMATION CONTACT: Michael R. Goodwin, Acting Chief Human Capital Officer, Bureau of the Fiscal Service, (304) 480-5290.

SUPPLEMENTARY INFORMATION: This Notice announces the appointment of the following primary and alternate members to the Fiscal Service PRB:

Primary Members

Kimberly A. McCoy, Deputy Commissioner, Accounting and Shared Services, Fiscal Service

Lori Santamorena, Executive Director, Government Securities Regulations Staff, Fiscal Service

Stephen L. Manning, Deputy Commissioner for Finance & Administration/CIO, Fiscal Service

ALTERNATE MEMBER

Douglas Anderson, Assistant Commissioner, Shared Services, Fiscal Service

Authority: 5 U.S.C. 4314(c)(4).

Sheryl R. Morrow,
Commissioner.

[FR Doc. 2016-25779 Filed 10-20-16; 4:15 pm]

BILLING CODE 4810-AS-P